DEPARTMENT OF COMMERCE

United States Patent and Trademark Office

[Docket No.: PTO-P-2018-0070]

Expiration of the Extended Missing Parts Pilot Program

AGENCY: United States Patent and Trademark Office, Commerce.

ACTION: Notice.

SUMMARY: The United States Patent and Trademark Office (USPTO) implemented a pilot program (Extended Missing Parts Pilot Program) in which an applicant, under certain conditions, can request a 12-month time period to pay the search fee, the examination fee, any excess claim fees, and the surcharge (for the late submission of the search fee and the examination fee) in a nonprovisional application. Based on the limited number of grantable requests and the administrative burden on the USPTO in processing improper requests, the USPTO decided not to extend the Extended Missing Parts Pilot Program beyond January 2, 2019.

DATES: The USPTO decided not to extend the Extended Missing Parts Pilot Program beyond January 2, 2019. Therefore, any certification and request to participate in the Extended Missing Parts Pilot Program must have been filed on or before January 2, 2019.

FOR FURTHER INFORMATION CONTACT: Eugenia A. Jones, Senior Legal Advisor, Office of Patent Legal Administration, Office of the Deputy Commissioner for Patent Examination Policy, by telephone at (571) 272-7727, or Erin M. Harriman, Senior Legal Advisor, Office of Patent Legal Administration, Office of the Deputy Commissioner for Patent Examination Policy, by telephone at (571) 272-7747.

Inquiries regarding this notice may also be directed to the Office of Patent Legal Administration, by telephone at (571) 272-7701, or by electronic mail at PatentPractice@uspto.gov. Alternatively, mail may be addressed to: Mail Stop Comments—Patents, Commissioner for Patents, P.O. Box 1450, Alexandria, VA 22313-1450, marked to the attention of Eugenia A. Jones.

SUPPLEMENTARY INFORMATION: On December 8, 2010, after considering written comments from the public, the USPTO changed the missing parts examination procedures in certain nonprovisional applications by implementing a pilot program (i.e., Extended Missing Parts Pilot Program). See Pilot Program for Extended Time Period To Reply to a Notice to File Missing Parts of Nonprovisional Application, 75 FR 76401 (Dec. 8, 2010), 1362 Off. Gaz. Pat. Office 44 (Jan. 4, 2011). The USPTO has extended the pilot program through notices published in the Federal Register. On September 6, 2016, the USPTO sought public comment on whether the Extended Missing Parts Pilot Program offers sufficient benefits to the patent community for it to be made permanent or whether the USPTO should permit the pilot program to expire. See Request for Comments on the Extended Missing Parts Pilot Program, 81 FR 61195 (Sept. 6, 2016), 1430 Off. Gaz. Pat. Office 269 (Sept. 27, 2016). The USPTO received only two comments. The two comments are available via the USPTO's internet website at https://www.uspto.gov/patent/laws-and-regulations/comments-public/comments-extended-missing-parts-pilot-program. On January 10, 2018, the USPTO extended the pilot program until January 2, 2019, and indicated that it intended to make a decision before January 2, 2019, on whether the program should be made permanent or permitted to expire. See Extension of Extended Missing Parts Pilot Program, 83 FR 1243 (Jan. 10, 2018), 1447 Off. Gaz. Pat. Office 47 (Feb. 6, 2018).

Since the inception of the Extended Missing Parts Pilot Program, the USPTO has received fewer than 200 grantable requests per year. In addition, the number of grantable requests has decreased over the past year. In view of the low usage of the pilot program, the limited number of written comments received from the public in response to the 2016 request for comments, and the administrative burden on the USPTO in processing improper requests, the USPTO decided to permit the Extended Missing Parts Pilot Program to expire on January 2, 2019.

Any certification and request must have been filed on or before January 2, 2019, in order to participate in the Extended Missing Parts Pilot Program. The USPTO will review any certification and request filed on or before January 2, 2019, for compliance with the requirements of the program. Any certification and request filed after January 2, 2019, will not be granted.

Dated: January 18, 2019.
Andrei Iancu,
Under Secretary of Commerce for Intellectual Property and Director of the United States Patent and Trademark Office.

[FR Doc. 2019-00201 Filed 1-25-19; 8:45 am]

BILLING CODE 1410-30-P